DEPARTMENT OF TRANSPORTATION

Federal Aviation Administration

14 CFR Part 39

[Docket No. FAA-2016-9074; Directorate Identifier 2016-NM-097-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A318-111 and -112 airplanes, Model A319-111, -112, -113, -114, and -115 airplanes, Model A320-211, -212, and -214 airplanes, and Model A321-111, -112, -211, -212, and -213 airplanes. This proposed AD was prompted by reports of engine fan cowl door (FCD) losses on airplanes equipped with CFM56 engines due to operator failure to close the FCD during ground operations. This proposed AD would require modification and re-identification of certain FCDs or replacement of certain FCDs. This proposed AD would also require installation of a placard. We are proposing this AD to prevent in-flight loss of an engine FCD and possible consequent damage to the airplane.

DATES: We must receive comments on this proposed AD by November 10, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus, Airworthiness Office-EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425 227-1221.

Examining the AD Docket

You may examine the AD docket on the Internet at http://www.regulations.gov by searching for and locating Docket No. FAA-2016-9074; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2016-9074; Directorate Identifier 2016-NM-097-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive, 2016-0069, dated April 11, 2016 (referred to after this as the Mandatory Continuing Airworthiness Information, or “the MCAI”), to correct an unsafe condition for all Airbus Model A318-111 and -112 airplanes, Model A319-111, -112, -113, -114, and -115 airplanes, Model A320-211, -212, and -214 airplanes, and Model A321-111, -112, -211, -212, and -213 airplanes. The MCAI states:

Fan Cowl Door (FCD) losses were reported on aeroplanes equipped with CFM56 engines.

Investigations confirmed that in all cases the fan cowls were opened prior to the flight and were not correctly re-secured. During the pre-flight inspection, it was then not detected that the FCD were not properly latched.

This condition, if not detected and corrected, could lead to in-flight loss of a FCD, possibly resulting in damage to the aeroplane and/or injury to persons on the ground.

Prompted by these events, new FCD front latch and keeper assembly were developed, having a specific key necessary to un-latch the FCD. This key cannot be removed unless the FCD front latch is safely closed. The key, after removal, must be stowed in the flight deck at a specific location, as instructed in the applicable Aircraft Maintenance Manual. Applicable Flight Crew Operating Manual has been amended accordingly. After modification, the FCD is identified with a different Part Number (P/N).

For the reasons described above, this [EASA] AD requires modification and re-identification of FCD [or replacement of the FCD].

You may examine the MCAI in the AD docket on the Internet at http://www.regulations.gov by searching for and locating Docket No. FAA-2016-9074.

Related Service Information Under 1 CFR Part 51

We reviewed Airbus Service Bulletin A320-71-1068, Revision 01, dated April 28, 2016. This service information describes procedures for modifying the left-hand and right-hand FCDs on engines 1 and 2; installing a placard; and re-identifying both the left-hand and right-hand FCDs with the new part number. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Differences Between This Proposed AD and the MCAI or Service Information

The parts installation prohibition specified in paragraph (5) of the MCAI depends on the configuration of the airplane. However, paragraph (k) of this proposed AD prohibits installing certain parts for all airplanes as of the effective date of this proposed AD.

Costs of Compliance

We estimate that this proposed AD affects 400 airplanes of U.S. registry.

We estimate the following costs to comply with this proposed AD:

Estimated Costs
Action | Labor cost | Parts cost | Cost per product | Cost on U.S. operators
Modification and re-identification of (or replacement of) FCD, and Installation of Placard | Up to 7 work-hours × $85 per hour = $595 | $4,865 | $5,460 | $2,184,000

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(h), 40113, 44701.

§ 39.13 [Amended]

2. The FAA amends § 39.13 by adding the following new airworthiness directive (AD):

Airbus: Docket No. FAA-2016-9074; Directorate Identifier 2016-NM-097-AD.

(a) Comments Due Date

We must receive comments by November 10, 2016.

(b) Affected ADs

None.

(c) Applicability

This AD applies to the Airbus airplanes, certificated in any category, identified in paragraphs (c)(1) through (c)(4) of this AD, all manufacturer serial numbers.

(1) Airbus Model A318-111 and -112 airplanes.

(2) Airbus Model A319-111, -112, -113, -114, and -115 airplanes.

(3) Airbus Model A320-211, -212, and -214 airplanes.

(4) Airbus Model A321-111, -112, -211, -212, and -213 airplanes.

(d) Subject

Air Transport Association (ATA) of America Code 71, Powerplant.

(e) Reason

This AD was prompted by reports of engine fan cowl door (FCD) losses on airplanes equipped with CFM56 engines due to operator failure to close the FCD during ground operations. We are issuing this AD to prevent in-flight loss of an engine FCD and possible consequent damage to the airplane.

(f) Compliance

Comply with this AD within the compliance times specified, unless already done.

(g) Modification of Affected Fan Cowl Doors and Placard Installation

Within 35 months after the effective date of this AD, accomplish concurrently the actions in paragraphs (g)(1), (g)(2) and (g)(3) of this AD, in accordance with the Accomplishment Instructions of Airbus Service Bulletin A320-71-1068, Revision 01, dated April 28, 2016.

(1) Modify the left-hand and right-hand FCDs on engines 1 and 2.

(2) Install a placard on the box located at the bottom of the 120 volt unit (120 VU) panel, or at the bottom of the coat stowage, as applicable to airplane configuration.

(3) Re-identify both the left-hand and right-hand FCDs with the new part number, as applicable, as specified in table 1 to paragraphs (g), (h), (i), and (k) of this AD.

Table 1 to Paragraphs (g), (h), (i), and (k) of This AD—Fan Cowl Door Part Number (P/N) Change
Door position | Old P/N | New P/N
Left-hand Side—CFM56-5A | 238-0301-501 | 238M0301-501
| 238-0301-503 | 238M0301-503
| 238-0301-505 | 238M0301-505
| 238-0301-507 | 238M0301-507
| 238-0301-511 | 238M0301-511
| 238-0301-513 | 238M0301-513
| 238-0301-515 | 238M0301-515
| 238-0301-517 | 238M0301-517
| 238-0301-519 | 238M0301-519
| 238-0301-521 | 238M0301-521
| 238-0301-523 | 238M0301-523
| 238-0301-525 | 238M0301-525
| 238-0301-527 | 238M0301-527
| 238-0301-529 | 238-0301-533
| 238-0301-531 | 238-0301-535
Right-hand Side—CFM56-5A | 238-0302-501 | 238M0302-501
| 238-0302-503 | 238M0302-503
| 238-0302-505 | 238M0302-505
| 238-0302-509 | 238M0302-509
| 238-0302-511 | 238M0302-511
| 238-0302-513 | 238M0302-513
| 238-0302-515 | 238M0302-515
| 238-0302-517 | 238M0302-517
| 238-0302-519 | 238M0302-519
| 238-0302-521 | 238M0302-521
| 238-0302-523 | 238M0302-523
| 238-0302-525 | 238M0302-525
| 238-0302-527 | 238M0302-527
| 238-0302-529 | 238M0302-529
| 238-0302-531 | 238M0302-531
| 238-0302-533 | 238M0302-533
| 238-0302-535 | 238M0302-535
| 238-0302-537 | 238M0302-537
| 238-0302-539 | 238-0302-547
| 238-0302-541 | 238-0302-549
| 238-0302-543 | 238-0302-551
| 238-0302-545 | 238-0302-553
Left-hand Side—CFM56-5B | 642-3001-503 | 642M3001-503
| 642-3001-505 | 642M3001-505
| 642-3001-507 | 642-3001-511
| 642-3001-509 | 642-3001-513
Right-hand Side—CFM56-5B | 642-3002-503 | 642M3002-503
| 642-3002-505 | 642M3002-505
| 642-3002-507 | 642M3002-507
| 642-3002-509 | 642M3002-509
| 642-3002-511 | 642-3002-519
| 642-3002-513 | 642-3002-521
| 642-3002-515 | 642-3002-523
| 642-3002-517 | 642-3002-525

(h) Replacement of Affected Fan Cowl Door With New Door Design

Replacing the FCDs, having a part number listed as “Old P/N” in table 1 to paragraphs (g), (h), (i), and (k) of this AD, with the FCDs having the corresponding part number listed as “New P/N” in table 1 to paragraphs (g), (h), (i), and (k) of this AD, is equal to compliance with paragraphs (g)(1) and (g)(3) of this AD. The replacement must be done in accordance with instructions approved by the Manager, International Branch, ANM-116, Transport Airplane Directorate, FAA; or the European Aviation Safety Agency (EASA), or approved under Airbus's EASA Design Organization Approval (DOA).

(i) Compliance Information for Airplanes on Which Airbus Modification 157517 Is Embodied

An airplane on which Airbus modification 157517 has been embodied in production, is compliant with the requirements of paragraphs (g)(1) and (g)(3) of this AD, provided it is determined that no FCD, having a part number identified as “Old P/N” in table 1 to paragraphs (g), (h), (i), and (k) of this AD, are installed on that airplane at the effective date of the AD.

(j) Compliance Information for Airplanes on Which Airbus Modification 157519 or Modification 157521 is Embodied

An airplane on which Airbus modification 157519 or modification 157521 has been embodied in production is compliant with the requirements of paragraph (g)(2) of this AD.

(k) Parts Installation Prohibition

As of the effective date of this AD, do not install on any airplane an FCD part number identified as “Old P/N” in table 1 to paragraphs (g), (h), (i), and (k) of this AD.

(l) Installation of Approved Parts

Installation on an airplane of right-hand and left-hand FCD, having a part number approved after the effective date of this AD, is equal to compliance with the requirements of paragraphs (g)(1) and (g)(3) of this AD for that airplane only, provided the conditions specified in paragraphs (l)(1) and (l)(2) of this AD are met.

(1) The part number must be approved by the Manager, International Branch, ANM-116, Transport Airplane Directorate, FAA; or EASA, or approved under Airbus's EASA DOA.

(2) The FCD installation must be accomplished in accordance with airplane modification instructions approved by the Manager, International Branch, ANM-116, Transport Airplane Directorate, FAA; or EASA; or approved under Airbus's EASA DOA.

(m) Credit for Previous Actions

This paragraph provides credit for actions required by paragraph (g) of this AD, if those actions were performed before the effective date of this AD using Airbus Service Bulletin A320-71-1068, dated December 18, 2015, which is not incorporated by reference in this AD.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(o) Related Information

(1) Refer to Mandatory Continuing Airworthiness Information (MCAI) EASA Airworthiness Directive 2016-0069, dated April 11, 2016, for related information. This MCAI may be found in the AD docket on the Internet at http://www.regulations.gov by searching for and locating Docket No. FAA-2016-9074.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on August 31, 2016.
Michael Kaszycki,
Acting Manager, Transport Airplane Directorate, Aircraft Certification Service.

[FR Doc. 2016-21703 Filed 9-23-16; 8:45 am]

BILLING CODE 4910-13-P